DEPARTMENT OF COMMERCE

International Trade Administration

A-549-813

Canned Pineapple Fruit from Thailand: Final Results of Antidumping Duty Administrative Review

AGENCY: Import Administration, International Trade Administration, Department of Commerce.

SUMMARY: On August 8, 2007, the Department of Commerce (the Department) published the preliminary results of its administrative review of the antidumping duty order on canned pineapple fruit (CPF) from Thailand. See Canned Pineapple Fruit from Thailand: Preliminary Results of Antidumping Duty Administrative Review, 72 FR 44490 (August 8, 2007) (Preliminary Results). This review covers shipments of subject merchandise to the United States for the period July 1, 2005 through June 30, 2006, made by Vita Food Factory (1989) Ltd. (Vita) and Tropical Food Industries Co. Ltd. (Trofco).

The Department determines that Vita and Trofco made sales to the U.S. at less than normal value. The final results are listed below in the section titled “Final Results of Review”.

EFFECTIVE DATE: January 31, 2008.

FOR FURTHER INFORMATION CONTACT: Douglas Kirby or Myrna Lobo, AD/CVD Operations, Office 6, Import Administration, International Trade Administration, U.S. Department of Commerce, 14th Street and Constitution Avenue, NW., Washington, DC 20230; telephone: (202) 482-3782 or (202) 482-2371, respectively.

SUPPLEMENTARY INFORMATION:

Background

On August 8, 2007, the Department of Commerce (the Department) published the preliminary results of the administrative review of the antidumping duty order on CPF from Thailand. See Preliminary Results. We conducted a sales and cost verification of Vita from September 17 through September 25, 2007. See Verification of the U.S. and Comparison Market Sales Information and the Cost Information in the Response of Vita Food Factory (1989) Co., Ltd. for the 2005-06 Administrative Review of Canned Pineapple Fruit (CPF) from Thailand, issued on November 30, 2007 (Vita Verification Report). Furthermore, we conducted a sales verification of Trofco on September 26 through September 28, 2007. See Verification of the U.S. and Comparison Market Sales Information of Tropical Food Industries Co., Ltd. for the 2005-06 Administrative Review of Canned Pineapple Fruit (CPF) from Thailand, issued on November 30, 2007 (Trofco Verification Report). We invited interested parties to comment on the preliminary results and the verification reports. We received no comments.

Scope of the Antidumping Duty Order

The product covered by this order is CPF, defined as pineapple processed and/or prepared into various product forms, including rings, pieces, chunks, tidbits, and crushed pineapple, that is packed and cooked in metal cans with either pineapple juice or sugar syrup added. CPF is currently classifiable under subheadings 2008.20.0010 and 2008.20.0090 of the Harmonized Tariff Schedule of the United States (“HTSUS”). HTSUS 2008.20.0010 covers CPF packed in a sugar-based syrup; HTSUS 2008.20.0090 covers CPF packed without added sugar (i.e., juice-packed). Although these HTSUS subheadings are provided for convenience and for customs purposes, the written description of the scope is dispositive. There have been no scope rulings for the subject order.

Changes Since the Preliminary Results

Based on our findings at verification, we have made minor adjustments in the methodology that was used in the Preliminary Results for Trofco and Vita and accounted for corrections to their reported data.

At verification, Vita provided minor corrections relating to its reported commissions in the comparison market. Moreover, the Department identified additional minor corrections to Vita's reported commissions data. As a result, we have made adjustments to certain comparison market commissions made by Vita. Vita also provided minor corrections to its packing expenses and its direct selling expenses. As a result, we have made adjustments to Vita's packing expenses and direct selling expenses. For a further explanation of these changes, see Vita Verification Report at pages 3-4. Furthermore, based on information obtained since the preliminary results of this review, we have determined that Vita's reported commissions are more appropriately treated as discounts for the majority of sales by Vita to the United States. See Vita Verification Report at page 7; see also the Memorandum to the File, from Douglas Kirby through Dana Mermelstein (Program Manager) re: Analysis of Vita for the Final Results, dated January 24, 2008, on file in the Central Record Unit, room B-099 of the main Department of Commerce building (CRU).

Trofco also provided minor corrections at verification to its reported packing expenses. As a result, we have revised Trofco's packing expenses. Furthermore, Trofco provided minor corrections to its direct selling expenses for U.S. sales. As a result, we have revised Trofco's direct selling expenses for U.S. sales. See Trofco Verification Report at page 2; see also the Memorandum to the File, from Myrna Lobo through Dana Mermelstein (Program Manager) re: Analysis of Trofco for the Final Results, dated January 24, 2008, on file in the Central Record Unit, room B-099 of the main Department of Commerce building (CRU).

Final Results of Review

As a result of this review, we determine that the following weighted-average dumping margins exist for the period July 1, 2005 through June 30, 2006:

Manufacturer/Exporter | Weighted Average Margin
Vita Food Factory (1989) Ltd. | 7.13 percent
Tropical Food Industries Co., Ltd. | 10.40 percent

Assessment

The Department will determine, and U.S. Customs and Border Protection (CBP) shall assess, antidumping duties on all appropriate entries, pursuant to section 751(a)(1)(B) of the Tariff Act of 1930 (the Act), and 19 CFR 351.212(b). The Department calculated importer- specific duty assessment rates (or, when the importer was unknown by the respondent, customer-specific duty assessment rates) on the basis of the ratio of the total amount of antidumping duties calculated for the examined sales observations involving each importer to the total entered value of the examined sales observations for that importer. The Department intends to issue assessment instructions to CBP 15 days after the date of publication of these final results of review.

The Department clarified its “automatic assessment” regulation on May 6, 2003. This clarification will apply to entries of subject merchandise during the POR produced by companies included in these final results of review for which the reviewed companies did not know their merchandise was destined for the United States. In such instances, we will instruct CBP to liquidate unreviewed entries at the “All Others” rate if there is no rate for the intermediate company(ies) involved in the transaction. For a discussion of this clarification, see Notice of Policy Concerning Assessment of Antidumping Duties, 68 FR 23954 (May 6, 2003).

Cash Deposits

Furthermore, the following deposit requirements will be effective upon publication of these final results of this administrative review for all shipments of canned pineapple fruit from Thailand entered, or withdrawn from warehouse, for consumption on or after the publication date of these final results, as provided by section 751(a) of the Act: (1) for companies covered by this review, the cash deposit rate will be the rate listed above; (2) for previously reviewed or investigated companies not listed above, the cash deposit rate will continue to be the company-specific rate published for the most recent period; (3) if the exporter is not a firm covered in this review, a prior review, or the investigation, but the producer is, the cash deposit rate will be that established for the producer of the merchandise in these final results of review, a prior review, or in the final determination; and (4) if neither the exporter nor the producer is a firm covered in this review, a prior review, or the investigation, the cash deposit rate will be 24.64 percent, the “all-others” rate established in the less-than-fair-value investigation. These deposit requirements shall remain in effect until publication of the final results of the next administrative review.

Certificate on Reimbursement

This notice also serves as a final reminder to importers of their responsibility under 19 CFR 351.402(f)(2) to file a certificate regarding the reimbursement of antidumping duties prior to liquidation of the relevant entries during this review period. Failure to comply with this requirement could result in the Secretary's presumption that reimbursement of antidumping duties occurred, and in the subsequent assessment of double antidumping duties.

Notification Regarding Administrative Protective Orders

This notice is the only reminder to parties subject to the administrative protective order (APO) of their responsibility concerning the return or destruction of proprietary information disclosed under the APO in accordance with 19 CFR 351.305. Timely written notification of the return or destruction of APO materials or conversion to judicial protective order is hereby requested. Failure to comply with the regulations and the terms of an APO is a sanctionable violation.

We are issuing and publishing these results and this notice in accordance with sections 751(a)(1) and 777(i)(1) of the Act.

Dated: January 24, 2008.
David M. Spooner,
Assistant Secretary for Import Administration.

[FR Doc. E8-1794 Filed 1-30-08; 8:45 am]

BILLING CODE 3510-DS-S